INTERNATIONAL TRADE COMMISSION

[USITC SE-18-053]

Government in the Sunshine Act Meeting Notice

Agency Holding the Meeting: United States International Trade Commission.

Time and Date: November 16, 2018 at 9:30 a.m.

Place: Room 101, 500 E Street SW, Washington, DC 20436, Telephone: (202) 205-2000.

Status: Open to the public.

Matters to be Considered: 1. Agendas for future meetings: None.

2. Minutes.

3. Ratification List.

4. Vote on Inv. No. 731-TA-739 (Fourth Review) (Clad Steel Plate from Japan). The Commission is currently scheduled to complete and file its determination and views of the Commission by December 6, 2018.

5. Outstanding action jackets: None.

In accordance with Commission policy, subject matter listed above, not disposed of at the scheduled meeting, may be carried over to the agenda of the following meeting.

By order of the Commission.
Issued: November 5, 2018.
William Bishop,
Supervisory Hearings and Information Officer.

[FR Doc. 2018-24554 Filed 11-6-18; 4:15 pm]

BILLING CODE 7020-02-P